DEPARTMENT OF JUSTICE

Notice of Filing of Proposed Stipulation and Settlement Agreement Under The Comprehensive Environmental Response, Compensation, and Liability Act

On January 12, 2016, a proposed Settlement Agreement between the United States and the Debtors (“Settlement Agreement”) was filed with the United States Bankruptcy Court for the District of Delaware in the bankruptcy proceeding entitled In re Reichhold Holdings US, Inc., No. 14-12237-MFW (Bankr. D. Del.).

The proposed Settlement Agreement will resolve certain proofs of claim asserted against Debtor Reichhold Inc. under the Comprehensive Environmental Response, Compensation and Liability Act (“CERCLA”), 42 U.S.C. 9601-9675, for costs incurred and to be incurred by the United States in connection with certain sites, and for natural resource damages and costs of assessment at or in connection with certain sites.

Under the proposed Settlement Agreement the United States will have the following allowed general unsecured claims in the above referenced bankruptcy proceeding: 1)With respect to the Peterson/Puritan, Inc. Superfund Site in Rhode Island, the United States on behalf of EPA shall have an Allowed General Unsecured Claim of $205,211; 2) With respect to the Berry's Creek Study Area operable unit of the Ventron/Velsicol Superfund Site in New Jersey, the United States on behalf of EPA shall have an Allowed General Unsecured Claim of $400,000; 3) With respect to the Lower Passaic River Study Area of the Diamond Alkali Superfund Site in New Jersey, the United States on behalf of EPA shall have an Allowed General Unsecured Claim of $8,000,000; 4) With respect to the Yosemite Slough Superfund Site in California, the United States on behalf of EPA shall have an Allowed General Unsecured Claim of $268,000; 5) With respect to the Lower Duwamish Waterway Superfund Site in Washington: (i) The United States on behalf of EPA shall have an Allowed General Unsecured Claim of $4,300,000; (ii) the United States on behalf of National Oceanic and Atmospheric Administration (“NOAA”) shall have an Allowed General Unsecured Claim of $5,937; and (iii) the United States on behalf of the Department of Interior (“DOI”) shall have an Allowed General Unsecured Claim of $558,897.74 (which includes DOI assessment costs of $3,897.74); 6) With respect to the Kin-Buc Landfill Superfund Site in New Jersey, the United States on behalf of NOAA shall have an Allowed General Unsecured Claim of $29,487.47; 7) With respect to the Picketville Landfill Site in Florida, the United States, on behalf of EPA, shall have no allowed claim; 8) With respect to the Omega Chemical Site in California, the Omega PRP Organized Group (“OPOG”) and the Debtors are attempting to negotiate a written agreement prior to the effective date of Debtors' Plan of Liquidation, providing that OPOG's proof of claim shall be allowed as a general unsecured claim in the amount of $4,000,000. The United States on behalf of EPA shall have an contingent allowed general unsecured claim of $4,000,000 with respect to the Omega Site, which contingent allowed general unsecured claim shall only be entitled to a distribution from the Debtors in the event that no settlement agreement is reached between the Debtors and OPOG prior to the effective date of the Debtors' Plan of Liquidation; 9) With respect to the Baldwin Park Operable Unit Site (“BPOU”) in California, certain proofs of claim were filed by various PRPs. The Debtors are attempting to negotiate and enter into a written agreement with the BPOU PRP Group prior to the effective date of Debtors' Plan of Liquidation, providing that the BPOU Proofs of Claim shall be merged into a single proof of claim and shall be Allowed as a General Unsecured Claim in the amount of $3,000,000. The United States on behalf of EPA shall have a contingent allowed general unsecured claim of $3,000,000 with respect to the BPOU Site, which contingent allowed general unsecured claim shall only be entitled to a distribution from the Debtors in the event that no settlement agreement is reached between the Debtors and the BPOU PRP Group prior to the effective date of Debtors' Plan of Liquidation.

The Settlement Agreement includes certain covenants not to sue under Sections 106 and 107 of CERCLA, 42 U.S.C. 9606 or 9607, with respect to the above referenced Sites. DOI and NOAA are providing a covenant not to sue under Section 107 of CERCLA, 42 U.S.C. 9607 with respect to each Site for which they are receiving an allowed claim.

The publication of this notice opens a period for public comment on the Settlement Agreement—Gulfport. Comments should be addressed to the Assistant Attorney General, Environment and Natural Resources Division, and should refer to In re Reichhold Holdings US, INC., et al.,—D.J. Ref. No. 90-11-2-11196. All comments must be submitted so that they are received by no later than midnight (Eastern Time) January 29, 2016. Comments may be submitted either by email or by mail:

To submit comments: | Send them to:
By email | pubcomment-ees.enrd@usdoj.gov
By mail | Assistant Attorney General, U.S. DOJ—ENRD, P.O. Box 7611,Washington, DC 20044-7611.

During the public comment period, the Settlement Agreement may be examined and downloaded at this Justice Department Web site: http://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $ 9.75 (25 cents per page reproduction cost) payable to the United States Treasury.

Henry Friedman,
Assistant Section Chief, Environmental Enforcement Section, Environment and Natural Resources Division.

[FR Doc. 2016-00746 Filed 1-14-16; 8:45 am]

BILLING CODE 4410-15-P